DEPARTMENT OF THE TREASURY

Establishment of Advisory Committee on the Ten Year Framework for Energy and Environment Cooperation With China and Request for Nominations

AGENCY: Department of the Treasury, Departmental Offices. Office of the Special Envoy for China and the Strategic Economic Dialogue.

ACTION: Notice of Intent to Establish and Request for Nominations.

SUMMARY: The Department of the Treasury (the “Department”) intends to establish the Advisory Committee on the Ten Year Framework for Energy and Environment Cooperation with China (the “Advisory Committee”) to provide advice and recommendations on how best the United States can cooperate with China on shared energy and environmental challenges pursuant to the “Framework for the Ten Year Cooperation on the Energy and Environment between the Government of the United States of America and the Government of the People's Republic of China” (signed on 6/18/08 in Washington, DC). The Department is seeking nominations of individuals to be considered for selection as Advisory Committee members, and names of professional and public interest groups that should be represented on the Committee.

DATES: Nominations must be received before or on September 29, 2008.

ADDRESSES: Nominations should be sent to mary.kertz@do.treas.gov or by hard copy to Advisory Committee on the Ten Year Framework for Energy and Environment Cooperation with China, Office of the Special Envoy for China and the Strategic Economic Dialogue, Department of the Treasury, Main Treasury Building, Room 1308, 1500 Pennsylvania Avenue, NW., Washington, DC 20220.

FOR FURTHER INFORMATION CONTACT: Mary Kertz, Special Advisor to Ambassador Alan Holmer, Office of the Special Envoy for China and the Strategic Economic Dialogue, Department of the Treasury, Main Treasury Building, Room 1308, 1500 Pennsylvania Avenue, NW., Washington, DC 20220, (202) 622-2208 (not a toll-free number).

SUPPLEMENTARY INFORMATION: In accordance with the requirements of the Federal Advisory Committee Act, 5 U.S.C. App., the Department is publishing this notice that the Department intends to establish the Advisory Committee. The Advisory Committee's objective will be to provide advice and recommendations to the U.S. chair of the joint U.S.-China Steering Committee for Energy and Environment Cooperation (the “Joint Steering Committee”), which is currently occupied by the Secretary of the Treasury. In particular, the Advisory Committee will make periodic recommendations to the U.S. chair of the Joint Steering Committee on the status of energy and environment cooperation with China; on prioritizing energy and environment challenges facing the United States and China; and on the means to further promote and enhance cooperation on energy and environment challenges that face both the United States and China through the Ten Year Framework.

The charter will provide that the duties of the Advisory Committee shall be solely advisory and shall extend only to responding to requests from the U.S. Chair of the Joint Steering Committee, which is currently occupied by the Secretary of the Treasury. Such responses may be in the form of advice or recommendations to the U.S. Chair. No determination of fact or policy shall be made by the Advisory Committee. The Advisory Committee shall meet as necessary to carry out its duties. The Advisory Committee is expected to meet at least semi-annually at the call of the Designated Federal Officer (DFO) in consultation with the Chair. The DFO shall ensure compliance with the requirements of FACA and its implementing regulations. Meetings of subcommittees may occur more frequently.

To achieve the Advisory Committee's objective, the Department will ensure that the Advisory Committee reflects a balanced membership, including up to 25 members representing the views of both government and non-government entities and groups having an interest and demonstrated leadership in global energy and environment issues. In order to select Advisory Committee members who represent the greatest range of interests in U.S.-China cooperation under the Ten Year Framework, the Department is soliciting suggestions for potential Committee members from a variety of sources including but not limited to government, industry, academia, think tanks, and non-governmental organizations. Nominations should describe and document the proposed members' qualifications for Committee membership. In addition to individual nominations, the Department is soliciting the names of professional and public interest groups that should have representative members participating on the Advisory Committee. Members will serve a two to three-year appointment with the possibility of a one-year renewal. Advisory Committee members will not receive compensation, but they will be reimbursed for travel expenses consistent with governing Federal laws and regulations.

Dated: September 18, 2008.
Taiya Smith,
Executive Secretary.

[FR Doc. E8-22364 Filed 9-23-08; 8:45 am]

BILLING CODE 4810-25-P